DEPARTMENT OF THE INTERIOR

Bureau of Land Management

[AZ-910-0777-XP-241A]

State of Arizona Resource Advisory Council Meeting

AGENCY: Bureau of Land Management, Interior.

ACTION: Arizona Resource Advisory Council Meeting notice.

SUMMARY: This notice announces a meeting of the Arizona Resource Advisory Council (RAC).

The business meeting will be held on December 6, 2005, in Phoenix, Arizona, at the Arizona State Office located at One North Central Avenue, 8th floor. It will begin at 9:30 a.m. and conclude at 4:30 p.m. The agenda items to be covered include: Review of the August 23, 2005 Meeting Minutes; BLM State Director's Update on Statewide Issues; New RAC Member Orientation; Presentations on San Pedro Water Rights Issues; Rangeland Inventory and Monitoring; Arizona Land Use Planning Update; RAC Questions on Written Reports from BLM Field Managers; Field Office Rangeland Resource Team Proposals; Reports by the Standards and Guidelines, Recreation, Off-Highway Vehicle Use, Public Relations, Land Use Planning and Tenure, and Wild Horse and Burro Working Groups; Reports from RAC members; and Discussion of future meetings. A public comment period will be provided at 11:30 a.m. on December 6, 2005, for any interested publics who wish to address the Council.

FOR FURTHER INFORMATION CONTACT: Deborah Stevens, Bureau of Land Management, Arizona State Office, One North Central Avenue, Phoenix, Arizona 85004, (602) 417-9215.

Carl Rountree,
Acting Arizona State Director.

[FR Doc. 05-21602 Filed 10-28-05; 8:45 am]

BILLING CODE 4310-32-P